DEPARTMENT OF JUSTICE

Notice of Lodging Proposed Partial Consent Decree

In accordance with Departmental Policy, 28 CFR 50.7, notice is hereby given that a proposed Partial Consent Decree in United States, et al. v. Richard M. Osborne, Sr., et al., No. 1:11-cv-1029, was lodged with the United States District Court for the Northern District of Ohio on July 13, 2020.

This proposed Partial Consent Decree concerns a complaint filed by the United States and Co-Plaintiff State of Ohio against Defendants Richard M. Osborne, Sr., individually and as Trustee of the Richard M. Osborne Trust, Madison/Route 20 LLC, Midway Industrial Campus Company, LTD, Naylor Family Partnership, J.T.O., Inc., and the City of Willoughby. The federal claims, pursuant to Sections 301 and 404 of the Clean Water Act, 33 U.S.C. 1311 and 1344, seek to obtain injunctive relief from and impose civil penalties against the Defendants for violating the Clean Water Act by discharging pollutants without a permit into waters of the United States. The proposed Partial Consent Decree resolves these allegations against the City of Willoughby and J.T.O., Inc. by requiring these Defendants to perform restoration and mitigation.

The Department of Justice will accept written comments relating to this proposed Partial Consent Decree for thirty (30) days from the date of publication of this Notice. Please address comments to Daniel R. Dertke, Senior Attorney, United States Department of Justice, Post Office Box 7611, Washington, DC 20044-7611, and refer to United States v. Richard M. Osborne, Sr., et al., DJ #90-5-1-1-17817.

The proposed Partial Consent Decree may be examined at the Clerk's Office, United States District Court for the Northern District of Ohio, Carl B. Stokes United States Court House, 801 West Superior Avenue, Cleveland, OH 44113. In addition, the proposed Partial Consent Decree may be examined electronically at http://www.justice.gov/enrd/consent-decrees.

Cherie Rogers,
Assistant Section Chief, Environmental Defense Section, Environment and Natural Resources Division.

[FR Doc. 2020-15574 Filed 7-17-20; 8:45 am]

BILLING CODE P